DEPARTMENT OF COMMERCE

International Trade Administration

(A-533-810)

Notice of Final Results and Final Partial Rescission of Antidumping Duty Administrative Review: Stainless Steel Bar from India

AGENCY: Import Administration, International Trade Administration, Department of Commerce.

SUMMARY: On March 7, 2006, the Department of Commerce published the preliminary results of the administrative review of the antidumping duty order on stainless steel bar from India. The period of review is February 1, 2004, through January 31, 2005. This review covers sales of stainless steel bar from India with respect to Chandan Steel, Ltd. We provided interested parties with an opportunity to comment on the preliminary results of this review, but received no comments. The final results do not differ from the preliminary results of this review. We will instruct U.S. Customs and Border Protection to assess antidumping duties on the subject merchandise exported by this company.

EFFECTIVE DATE: July 3, 2006.

FOR FURTHER INFORMATION CONTACT: Scott Holland, AD/CVD Operations, Office 1, Import Administration, International Trade Administration, U.S. Department of Commerce, 14th Street and Constitution Avenue, NW, Washington DC 20230; telephone: (202) 482-1279.

SUPPLEMENTARY INFORMATION:

Background

Since the publication of the preliminary results of this review (see Stainless Steel Bar from India: Notice of Preliminary Results and Preliminary Partial Rescission of Antidumping Duty Administrative Review, 71 FR 11390 (March 7, 2006) (“Preliminary Results”)), the following events have occurred: the Department of Commerce (“the Department”) invited interested parties to comment on the preliminary results of this review. No comments were received.

Scope of the Order

Merchandise covered by the order is shipments of stainless steel bar (“SSB”). SSB means articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. SSB includes cold-finished SSBs that are turned or ground in straight lengths, whether produced from hot-rolled bar or from straightened and cut rod or wire, and reinforcing bars that have indentations, ribs, grooves, or other deformations produced during the rolling process.

Except as specified above, the term does not include stainless steel semi-finished products, cut-to-length flat-rolled products (i.e., cut-to-length rolled products which if less than 4.75 mm in thickness have a width measuring at least 10 times the thickness, or if 4.75 mm or more in thickness having a width which exceeds 150 mm and measures at least twice the thickness), wire (i.e., cold-formed products in coils, of any uniform solid cross section along their whole length, which do not conform to the definition of flat-rolled products), and angles, shapes, and sections.

The SSB subject to these reviews is currently classifiable under subheadings 7222.11.00.05, 7222.11.00.50, 7222.19.00.05, 7222.19.00.50, 7222.20.00.05, 7222.20.00.45, 7222.20.00.75, and 7222.30.00.00 of the Harmonized Tariff Schedule of the United States (“HTSUS”). Although the HTSUS subheadings are provided for convenience and customs purposes, our written description of the scope of the order is dispositive.

On May 23, 2005, the Department issued a final scope ruling that SSB manufactured in the United Arab Emirates out of stainless steel wire rod from India is not subject to the scope of this proceeding. See Memorandum to Barbara E. Tillman, Antidumping Duty Orders on Stainless Steel Bar from India and Stainless Steel Wire Rod from India: Final Scope Ruling (May 23, 2005). The ruling is on file in the Central Records Unit, Room B-099 of the main Department building (“CRU”).

Period of Review

The period of review (“POR”) is February 1, 2004, through January 31, 2005.

Partial Rescission of Review

According to 19 CFR 351.213(d)(3), the Department will rescind an administrative review in whole or only with respect to a particular exporter or producer, if we conclude that, during the POR, there were no entries, exports, or sales of the subject merchandise, as the case may be. In the Preliminary Results, the Department preliminarily found that Ferro Alloys Corporation, Ltd. (“Facor”) reported no entries of subject merchandise to the United States during the POR, a fact which the Department confirmed by conducting an inquiry with U.S. Customs and Border Protection (“CBP”). Therefore, pursuant to 19 CFR 351.213(d)(3), and consistent with the Preliminary Results, we are rescinding this review with respect to Facor.

Final Results of the Review

These final results remain unchanged from the Preliminary Results. We provided an opportunity for parties to comment on our preliminary results and received no comments. Therefore, we find that the following percentage margin exists for the period February 1, 2004, through January 31, 2005:

Exporter/Manufacturer | Margin
Chandan Steel, Ltd. | 21.02

Assessment Rates

The Department shall determine, and CBP shall assess, antidumping duties on all appropriate entries. For Chandan, we will instruct CBP to liquidate entries at the rate indicated above. The Department will issue appropriate assessment instructions directly to the CBP within 15 days of publication of these final results of review.

In accordance with the Department's clarification of its assessment policy (see Antidumping and Countervailing Duty Proceedings: Assessment of Antidumping Duties, 68 FR 23954 (May 6, 2003)), in the event any entries were made during the period of review through intermediaries under the CBP case number for Facor, the Department will instruct CBP to liquidate such entries at the all-others rate in effect on the date of entry.

Cash Deposit Rates

The following antidumping duty deposits will be required on all shipments of SSB from India entered, or withdrawn from warehouse, for consumption, effective on or after the publication date of these final results of administrative review, as provided by section 751(a)(1) of the Act: (1) the cash deposit rates for the reviewed company will be the rate listed above (except no cash deposit will be required if a company's weighted-average margin is de minimis, i.e., less than 0.5 percent); (2) for previously reviewed or investigated companies not listed above, the cash deposit rate will continue to be the company-specific rate published for the most recent period; (3) if the exporter is not a firm covered in this review, the previous review, or the original investigation, but the manufacturer is, the cash deposit rate will be the rate established for the most recent period for the manufacturer of the merchandise; and (4) if neither the exporter nor the manufacturer is a firm covered in this or any previous reviews, the cash deposit rate will be 12.45 percent, the “all others” rate established in the less than fair value investigation. See Stainless Steel Bar from India; Final Determination of Sales at Less Than Fair Value, 59 FR 66915 (December 28, 1994). These cash deposit requirements shall remain in effect until publication of the final results of the next administrative review.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notification Regarding APOs

This notice also serves as the only reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing these results of review in accordance with sections 751(a)(1) and 777(i)(1) of the Act.

Dated: June 27, 2006.
David M. Spooner,
Assistant Secretary for Import Administration.

[FR Doc. E6-10386 Filed 6-30-06; 8:45 am]

BILLING CODE 3510-DS-S